DEPARTMENT OF TRANSPORTATION

Federal Motor Carrier Safety Administration

[Docket No. FMCSA-2010-0143]

Motor Carrier Safety Advisory Committee Public Meeting

AGENCY: Federal Motor Carrier Safety Administration (FMCSA), DOT.

ACTION: Notice of Motor Carrier Safety Advisory Committee Meeting.

SUMMARY: FMCSA announces that its Motor Carrier Safety Advisory Committee (MCSAC) will hold a three-day committee meeting concerning fatigue management of commercial motor vehicle (CMV) operators, from August 30 through September 1, 2010. This meeting is open to the public.

DATES: Meeting dates: The meeting will be held on the following dates: Monday, August 30, from 8:30 a.m. to 4 p.m.; Tuesday, August 31, from 8:30 a.m. to 4 p.m.; and Wednesday, September 1, 2010, from 8:30 a.m. to 2 p.m. Eastern Daylight Time.

Location: Hilton Alexandria Old Town, Washington and Jefferson Rooms, 2nd Floor, 1767 King Street, Alexandria, VA 22314 (located across the street from the King Street Metrorail Station).

Subject: FMCSA will request that MCSAC provide information, concepts, and ideas on ways to develop a safe and efficient fatigue management system for commercial motor vehicle operators in the United States. For this meeting, the MCSAC will hear presentations from fatigue management experts and government officials from Australia, Canada, Mexico, and the United States, on efforts to manage how fatigue affects operators of CMVs on their roadways. The MCSAC will draw on the experiences of these other nations and studies performed by the United States and Canada to recommend tenets of fatigue management for the United States. The MCSAC will present a report on its findings and recommendations to Anne Ferro, FMCSA Administrator, at its December 2010 meeting.

FOR FURTHER INFORMATION CONTACT: Ms. Shannon L. Watson, Senior Management Analyst, Strategic Planning and Program Evaluation Division, Office of Policy Plans and Regulation, Federal Motor Carrier Safety Administration, U.S. Department of Transportation, 1200 New Jersey Avenue, SE., Washington, DC 20590, (202) 385-2395, or e-mail mcsac@dot.gov.

SUPPLEMENTARY INFORMATION:

I. Background

Section 4144 of the Safe, Accountable, Flexible, Efficient Transportation Equity Act: A Legacy for Users (SAFETEA-LU) (Pub. L. 109-59, 119 Stat. 1144, August 10, 2005) required the Secretary of Transportation to establish a Motor Carrier Safety Advisory Committee. The committee provides advice and recommendations to the FMCSA Administrator on motor carrier safety programs and regulations and operates in accordance with the Federal Advisory Committee Act (5 U.S.C. App 2).

II. Meeting Participation

For information on services for individuals with disabilities or to request special assistance, please e-mail your request to mcsac@dot.gov by Wednesday, August 18, 2010. Comments from the public will be heard orally during the last hour of each day's meeting. To be assured of timely consideration, interested parties may submit written comments on the subject topic by Wednesday, August 18, 2010, to the Federal Docket Management System (FDMS) in Docket Number FMCSA-2010-0143 using either of the following methods:

• Federal eRulemaking Portal: Go to http://www.regulations.gov. Follow the online instructions for submitting comments.

• Fax: 202-493-2251.

Issued on: August 11, 2010.
Larry W. Minor,
Associate Administrator for Policy and Program Development.

[FR Doc. 2010-20222 Filed 8-16-10; 8:45 am]

BILLING CODE 4910-EX-P